DEPARTMENT OF THE INTERIOR

National Park Service

[NPS-WASO-NAGPRA-NPS0030082; PPWOCRADN0-PCU00RP14.R50000]

Notice of Intent To Repatriate Cultural Items: Robert S. Peabody Institute of Archaeology, Andover, MA

AGENCY: National Park Service, Interior.

ACTION: Notice.

SUMMARY: The Robert S. Peabody Institute of Archaeology, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Robert S. Peabody Institute of Archaeology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Robert S. Peabody Institute of Archaeology at the address in this notice by May 20, 2020.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3005, of the intent to repatriate cultural items under the control of the Robert S. Peabody Institute of Archaeology, Andover, MA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1891 and 1892, 385 cultural items were removed by Ernest Volk during excavations at the lowlands village and at Lalor Field in Mercer County, NJ, which today form part of the Abbott Farm National Historic Landmark. Volk was a German archeologist who came to the United States in 1867, and worked for Frederic Ward Putnam of the Harvard Peabody Museum of Archaeology and Ethnology. It is unclear how Volk's collections might have come to the Robert S. Peabody Institute of Archaeology (RSPIA), though possibly via Frederic Ward Putnam, who was associated with curator Warren K. Moorehead and honorary director Charles Peabody during the early twentieth century. The collection at RSPIA was not accessioned or cataloged until recently. Volk's excavation notes detail the graves and proveniences from which the objects were removed. The 385 unassociated funerary objects are two unmodified bone fragments, one mica fragment, 198 ceramic sherds, and 184 stone fragments (consisting of points, bifaces, flakes, scrapers, and round stone).

Consultation with the Delaware Nation, Oklahoma and the Delaware Tribe of Indians has determined affiliation through geographical, archeological, linguistic, historical, and oral traditional information. Scholarly publications and information provided during consultation documents use of the Lowlands/Abbott Farm area by the Delaware Tribes. Linguistic connections through the Unami language persist from the Early Woodland period to today.

Determinations Made by the Robert S. Peabody Institute of Archaeology

Officials of the Robert S. Peabody Institute of Archaeology have determined that:

• Pursuant to 25 U.S.C. 3001(3)(B), the 385 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Delaware Nation, Oklahoma; Delaware Tribe of Indians; and the Stockbridge Munsee Community, Wisconsin.

Additional Requestors and Disposition

Lineal descendants or representatives of any Indian Tribe or Native Hawaiian organization not identified in this notice that wish to claim these cultural items should submit a written request with information in support of the claim to Ryan Wheeler, Robert S. Peabody Institute of Archaeology, Phillips Academy, 180 Main Street, Andover, MA 01810, telephone (978) 749-4490, email rwheeler@andover.edu, by May 20, 2020. After that date, if no additional claimants have come forward, transfer of control of the unassociated funerary objects to the Delaware Nation, Oklahoma; Delaware Tribe of Indians; and the Stockbridge Munsee Community, Wisconsin may proceed.

The Robert S. Peabody Institute of Archaeology is responsible for notifying the Delaware Nation, Oklahoma; Delaware Tribe of Indians; and the Stockbridge Munsee Community, Wisconsin that this notice has been published.

Dated: March 25, 2020.
Melanie O'Brien,
Manager, National NAGPRA Program.

[FR Doc. 2020-08321 Filed 4-17-20; 8:45 am]

BILLING CODE 4312-52-P